DEPARTMENT OF HEALTH AND HUMAN SERVICES

National Institutes of Health

Center for Scientific Review; Amended Notice of Meeting

Notice is hereby given of a change in the meeting of the Center for Scientific Review Special Emphasis Panel, June 25, 2007, 8:30 a.m. to June 26, 2007, 4 p.m., George Washington University Inn, 824 New Hampshire Ave., NW., Washington, DC, 20037 which was published in the Federal Register on May 21, 2007, 72 FR 28515-28517.

The meeting will be held on June 25, 2007, from 8:30 a.m. to 5 p.m. The meeting location remains the same. The meeting is closed to the public.

Dated: May 24, 2007.
Jennifer Spaeth,
Director, Office of Federal Advisory Committee Policy.

[FR Doc. 07-2667 Filed 5-29-07; 8:45 am]

BILLING CODE 4140-01-M